DEPARTMENT OF ENERGY

Federal Energy Regulatory Commission

[Docket No. RP02-241-000]

Williams Gas Pipelines Central, Inc.; Notice of Filing of Penalty Revenue Report

October 1, 2002.

Take notice that on April 30, 2002, Williams Gas Pipelines Central, Inc. (Williams) tendered for filing a report of the amount of penalty revenue collected by Williams pursuant to the provisions of Article 9.6 of the General Terms and Conditions of its FERC Gas Tariff during Periods of Daily Balancing (PODB) occurring in the 1995-96 and 1996-97 winter heating seasons, and the proposed distribution of such penalty revenues.

Williams states that as a result of severe weather conditions and resulting high demand for gas in its major market areas, Williams imposed two PODBs pursuant to Article 9.4 of its tariff during the 1995-96 winter heating season and three PODBs during the 1996-97 winter heating season as further described in its report. Penalties were imposed for overruns of MDTQ and MDWQ, depletion of gas in storage, under receipts at receipt points and over deliveries at delivery points as provided in Article 9.6 of Williams' tariff. As a result, Williams has collected $869,052 in penalty revenues. Williams proposes to refund these penalty revenues plus accrued interest ($396,119 through April 30, 2002) to non-offending parties as shown herein.

Williams states that a copy of its filing was served on all jurisdictional customers and interested state commissions.

Any person desiring to be heard or to protest said filing should file a motion to intervene or a protest with the Federal Energy Regulatory Commission, 888 First Street, NE, Washington, DC 20426, in accordance with sections 385.214 or 385.211 of the Commission's Rules and Regulations. All such motions or protests must be filed on or before October 8, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25546 Filed 10-7-02; 8:45 am]

BILLING CODE 6717-01-P